DEPARTMENT OF HEALTH AND HUMAN SERVICES

Centers for Disease Control and Prevention

Advisory Committee on Immunization Practices: Teleconference

In accordance with section 10(a)(2) of the Federal Advisory Committee Act (Pub. L. 92-463), the Centers for Disease Control and Prevention (CDC) announce the following Federal Committee meeting.

Name: Advisory Committee on Immunization Practices (ACIP) teleconference.

Time and Date: 10 a.m.—11 a.m., June 8, 2006.

Place: The conference call will originate at the National Immunization Program (NIP), in Atlanta. Georgia. Please see SUPPLEMENTARY INFORMATION for details on accessing the conference call.

Status: Open to the public, limited only by the availability of telephone ports.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to Be Discussed: To discuss background for decisions about the use of tetanus, reduced diphtheria and acellular (Tdap) vaccine in pregnant women.

Supplementary Information: This conference call is scheduled to begin at 10 a.m., Eastern Standard Time. To participate in the conference call, please dial 1-888-710-9649 and reference passcode 4003357.

As provided under 41 CFR 102-3.150(b), the public health urgency of this agency business requires that the meeting be held prior to the first available date for publication of this notice in the Federal Register.

For Further Information Contact: Demetria Gardner, Epidemiology and Surveillance Division, National Immunization Program, CDC, 1600 Clifton Road, NE, (E-05), Atlanta, Georgia 30333, telephone 404/639-8836, fax 404/639-8616.

The Acting Director, Management Analysis and Services Office, has been delegated the authority to sign Federal Register notices pertaining to announcements of meetings and other committee management activities, for both CDC and the Agency for Toxic Substances and Disease Registry.

Dated: May 26, 2006.
Diane Allen,
Acting Director, Management Analysis and Services Office, Centers for Disease Control and Prevention.

[FR Doc. E6-8590 Filed 5-31-06; 8:45 am]

BILLING CODE 4163-18-P